DEPARTMENT OF AGRICULTURE

Submission for OMB Review; Comment Request

March 17, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Certified Mediation Program.

OMB Control Number: 0560-0165.

Summary of Collection: The Farm Service Agency (FSA) amended its agricultural loan mediation regulations to implement the requirements of the Federal Crop Insurance Reform and Department of Agriculture Reorganization Act of 1994 (the 1994 Act) and the United States Grain Standards Act of 2000 (the Grain Standards Act). The regulation continues to provide a mechanism to States to apply for and obtain matching funds grants from USDA to supplement the expenses involved with the administration of an agricultural mediation program. FSA will collect information by mail, phone, fax, and in person.

Need and Use of the Information: FSA will collect information to determine whether the State meets the eligibility criteria to be recipients of grant funds, and secondly, to determine if the grant is being administered as provided by the Act.

Description of Respondents: State, Local or Tribal Government.

Number of Respondents: 35.

Frequency of Responses: Reporting: Annually.

Total Burden Hours: 1,190.

Farm Service Agency

Title: Power of Attorney.

OMB Control Number: 0560-0190.

Summary of Collection: Individuals or authorized representatives of entities wanting to appoint another to act as their attorney-in-fact in connection with certain Farm Service Agency (FSA), Commodity Credit Corporation (CCC), and Risk Management Agency (RMA) programs, Federal Crop Insurance Corporation (FCIC), Natural Resources Conservation Service (NRCS) and related actions must complete a Power of Attorney form and Extension Sheet to accommodate additional signatures (FSA-211/211A). The FSA-211/211A serves as evidence that the grantor has appointed another to act on their behalf for certain FSA, CCC, FCIC, RMA, and NRCS programs and related actions giving the appointee legal authority to enter into binding agreements on the grantor's behalf.

Need and Use of the Information: FSA will collect information to verify an individual's authority to sign and act for another in the event of errors or fraud that requires legal remedies. The information collected on the FSA-211/211A is limited to the grantor's name, signature, and identification number, the grantee's name, address, and the applicable FSA, CCC, FCIC, NRCS, and RMA programs. Failure to collect and maintain the data collected on the form will limit or eliminate USDA's ability to accept an individual's signature on behalf of another individual or entity.

Description of Respondents: Individuals or households.

Number of Respondents: 11,250.

Frequency of Responses: Reporting: Other (once).

Total Burden Hours: 5,861.

Ruth Brown,
Departmental Information Collection Clearance Officer.

[FR Doc. 2010-6271 Filed 3-22-10; 8:45 am]

BILLING CODE 3410-05-P